DEPARTMENT OF HOMELAND SECURITY

Coast Guard

33 CFR Part 117

[Docket Number USCG-2014-0948]

Drawbridge Operation Regulation; Red River, Alexandria, LA

AGENCY: Coast Guard, DHS.

ACTION: Notice of deviation from drawbridge regulation.

SUMMARY: The Coast Guard has issued a temporary deviation from the operating schedule that governs the Jackson Street Drawbridge across the Red River, mile 88.6, at Alexandria, Louisiana. The deviation is necessary to allow the bridge owner to install four new pinion gears that are essential to the continued safe operation of the drawbridge. This deviation allows the bridge to remain in the closed-to-navigation position and not open to vessel traffic.

DATES: This deviation is effective from 7 a.m. April 6, 2015 to 7 p.m. April 15, 2015. This deviation will be enforced from 7 a.m. April 6 to 7 p.m. April 8, 2015 and from 7 a.m. April 13 to 7 p.m. April 15, 2015.

ADDRESSES: The docket for this deviation, [USCG-2014-0948] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Eric A. Washburn, Bridge Administrator, Western Rivers, Coast Guard; telephone (314) 269-2378, email Eric.Washburn@uscg.mil. If you have questions on viewing the docket, call Cheryl F. Collins, Program Manager, Docket Operations, telephone (202) 366-9826.

SUPPLEMENTARY INFORMATION: The Louisiana Department of Transportation & Development requested a temporary deviation for the Jackson Street Drawbridge, across the Red River, mile 88.6, at Alexandria, Louisiana to remain in the closed-to-navigation position from 7 a.m. April 6 to 7 p.m. April 8, 2015 and from 7 a.m. April 13 to 7 p.m. April 15, 2015.

The Jackson Street Drawbridge currently operates in accordance with 33 CFR 117.491(b), which states the drawbridge shall open on signal if at least eight hours notice is given; except that, from 7 a.m. to 9 a.m. and from 4 p.m. to 6 p.m. the draw need not be opened Monday through Friday except holidays.

There are no alternate routes for vessels transiting this section of the Red River.

The Jackson Street Drawbridge, in the closed-to-navigation position, provides a vertical clearance of 40.0 feet above normal pool. Navigation on the waterway primarily consists of commercial tows and recreational watercraft and will not be significantly impacted. This temporary deviation has been coordinated with waterway users. No objections were received. The Coast Guard will inform waterway users through the Local and Broadcast Notice to Mariners of the closure period so that vessels can arrange their transits to minimize any impacts caused by the temporary deviation.

In accordance with 33 CFR 117.35(e), the drawbridge must return to its regular operating schedule immediately at the end of the effective period of this temporary deviation. This deviation from the operating regulations is authorized under 33 CFR 117.35.

Dated: December 3, 2014.
Eric A. Washburn,
Bridge Administrator, Western Rivers.

[FR Doc. 2014-29661 Filed 12-17-14; 8:45 am]

BILLING CODE 9110-04-P